DEPARTMENT OF ENERGY

Federal Energy Regulatory Commission

Notice of Application for Removal of Lands From the Project Boundary and Soliciting Comments, Motions To Intervene, and Protests

January 28, 2004.

Take notice that the following application has been filed with the Commission and is available for public inspection:

a. Application Type: Amendment to remove project lands from the project boundary.

b. Project No.: 1951-119.

c. Date Filed: December 16, 2003, supplement filed January 13, 2004.

d. Applicant: Georgia Power Company.

e. Name of Project: Sinclair Hydroelectric Project.

f. Location: The project is located on the Oconee River in Baldwin, Hancock, and Putnam Counties, Georgia. There are 48 acres of Oconee National Forest lands within the project boundary around Lake Sinclair.

g. Filed Pursuant to: Federal Power Act, 16 U.S.C. 791a-825r.

h. Applicant Contact: Mr. Larry Wall, 241 Ralph McGill Blvd., Atlanta, Georgia 30308-3374, (404) 506-2054.

i. FERC Contact: Any questions on this notice should be addressed to Robert Shaffer at (202) 502-8944, or e-mail address: Robert.Shaffer@ferc.gov.

j. Deadline for filing comments and or motions is March 1, 2004.

k. Description of Request: Georgia Power Company (Georgia Power) is seeking Commission authorization to remove 3650 acres of project lands from within the project boundary. Georgia Power would retain the current levels of ownership of the area proposed for removal. The change in project boundary from the 350′ contour to the 343′ contour would exclude many residential structures from the project boundary, and would simplify administrative duties for Georgia Power. Cultural properties, recreation and public access sites, and areas set aside for conservation and future recreation development under the license will remain within the boundary regardless of the contour.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of rules of practice and procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers. All documents (original and eight copies) should be filed with: Magalie R. Salas, Secretary, Federal Energy Regulatory Commission, 888 First Street, NE., Washington DC 20426. A copy of any motion to intervene must also be served upon each representative of the Applicant specified in the particular application.

p. Agency Comments: Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See 18 CFR 385.2001(a)(1)(iii) and the instructions on the Commission's Web site at http://www.ferc.gov under the “e-Filing” link.

Magalie R. Salas,
Secretary.

[FR Doc. E4-172 Filed 2-3-04; 8:45 am]

BILLING CODE 6717-01-P